POSTAL SERVICE

Board of Governors; Sunshine Act Meeting; Board Votes to Close November 4, 2011, Meeting

By telephone vote on November 4, 2011, a majority of the members of the Board of Governors of the United States Postal Service met and voted unanimously to close to public observation its meeting held in Washington, DC, via teleconference. The Board determined that no earlier public notice was possible.

Items Considered

1. Strategic Issues.

2. Financial Matters.

3. Pricing.

4. Personnel Matters and Compensation Issues.

General Counsel Certification

The General Counsel of the United States Postal Service has certified that the meeting was properly closed under the Government in the Sunshine Act.

Contact Person for More Information

Requests for information about the meeting should be addressed to the Secretary of the Board, Julie S. Moore, at (202) 268-4800.

Julie S. Moore,
Secretary.

[FR Doc. 2011-29912 Filed 11-16-11; 11:15 am]

BILLING CODE 7710-12-P